DEPARTMENT OF TRANSPORTATION

Pipeline and Hazardous Materials Safety Administration

Hazardous Materials: Notice of Applications for Special Permits

AGENCY: Pipeline and Hazardous Materials Safety Administration (PHMSA), DOT.

ACTION: List of applications for modification of special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before July 3, 2017.

ADDRESSES: Send comments to—Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue SE., Washington, DC 20590-0001, (202) 366-4535.

SUPPLEMENTARY INFORMATION: Copies of the applications are available for inspection in the Records Center, East Building, PHH-30, 1200 New Jersey Avenue SE., Washington, DC or at http://regulations.gov.

This notice of receipt of applications for special permit is published in accordance with Part 107 of the Federal hazardous materials transportation law (49 U.S.C. 5117(b); 49 CFR 1.53(b)).

Issued in Washington, DC, on May 25, 2017.
Donald Burger,
Chief, Office of the Special Permits and Approvals.

Application No. | Docket No. | Applicant | Regulation(s) affected | Nature of the special permits thereof
Special Permits Data
5749-M |  | Chemours Company FC LLC | 173.315(a) | To modify the special permit to authorize the modification of an MC-331 cargo tank by adding a rupture disk under the relief valve on the liquid load line. (mode 1).
9168-M |  | Berlin Packaging L.L.C | 173.13(a), 173.13(b), (c)(1)(ii), (c)(1)(iv), (c)(2)(iii) | To modify the special permit to remove the requirement to use an intermediate metal can for inner receptacles containing solid hazardous materials (modes 1, 2, 4, 5).
9649-M |  | Department of Defense (Military Surface Deployment & Distribution Command) | 172.203(d)(3), 172.203(d)(5), 172.300(a), 172.301(d), 172.310(a), 172.310(b), 172.310(c), 172.403(a), 172.403(b), 172.403(c), 172.403(f), 172.403(g)(2), 172.403(g)(3), 172.406(e), 173.422(a)(1), 173.426(b), 173.426(c), 173.426(d), 173.421(b), 173.421(d) | To modify the special permit to authorize an additional 1.3C explosive. (modes 1, 2, 3).
11911-M |  | Transfer Flow, Inc | 177.834(h), 178.700(c)(1) | To modify the special permit to authorize an additional fuel type. (mode 1).
12187-M |  | ITW Sexton Inc | 173.304a(a) | To modify the special permit to authorize an additional 2.2 gas. (modes 1, 2, 3, 4).
13220-M |  | Entegris, Inc | 173.192, 173.302(a), 173.304(a) | To modify the special permit to remove unauthorized hazmat due to new regulatory changes. (mode 1).
14578-M |  | Nantong CIMC Tank Equipment Co., LTD | 178.274(b), 178.274(b), 178.276(a)(2), 178.276(b)(1) | To modify the special permit to incorporate the international name and UN number for ammonia and to authorize an increase in the max capacity of portable tanks with 40′ ISO frames. (modes 1, 3).
14924-M |  | Demex International, Inc | 176.116(e), 176.116(e), 176.178(b), 176.120, 176.137(a)(7), 176.138(b), 176.164(e), 176.144(e) | To modify the special permit to authorize an additional material. (mode 3).
15136-M |  | Luxfer Inc | 173.302a | To modify the special permit to authorize pneumatic proof pressure testing for periodic requalification. (modes 1, 2, 3, 4).
15867-M |  | FIBA Technologies, Inc | 180.501(b), 180.505, 180.509(d)(1), 180.509(f)(1), 180.519(a), 180.519(b) | To modify the special permit to authorize individual tubes in a bundle to be equipped with pressure relief devices, remove invalid CGA C-23 references to 107A tubes, and to clarify test procedures and subsequent tube marking. (mode 1).
15991-M |  | Dockweiler AG | 178.50(d)(1), 178.50(d)(2) | To modify the special permit by updating the drawings and specifications of the authorized non-DOT specification cylinders conforming to DOT Specification 48. (modes 1, 2, 3, 4, 5).
16231-M |  | Thales Alenia Space | 172.101(j), 173.301(f), 173.302a(a)(1), 173.304a(a)(2) | To modify the special permit to authorize an additional Class 1.45 explosive. (modes 1, 3, 4).
16490-M |  | Demex International, Inc | 176.63, 176.83, 176.116(e), 176.120, 176.137(a)(7), 176.138(b), 176.144(e), 176.145(b) | To modify the special permit to authorize an additional material. (mode 3).
20292-M |  | Nuance Systems LLC | 173.181, 173.187, 173.201, 173.211, 173.302(a) | To modify the special permit to authorize an additional cylinder design. (modes 1, 2, 3).
20306-M |  | Avantor Performance Materials International, Inc | 173.158(e) | To modify the special permit to authorize a change in the minimum thickness of the interior polyvinyl chloride liner coating and to authorize an additional packing for transport. (modes 1, 2, 3).
20325-M |  | Samsung Electronics America, Inc | 172.200, 172.300, 172.500, 172.600, 172.700(a), 173.185(f) | To modify the special permit that was originally issued as an emergency to a permanent permit which authorizes transportation in commerce of damaged or defective lithium batteries contained in equipment. (modes 1, 2, 3).
20336-M |  | Geotek Coring Inc | 173.3(d) | To modify the special permit from an emergency special permit to a routine special permit. (modes 1, 3).
20351-M |  | Roeder Cartage Company, Incorporated | 180.407(c), 180.407(e), 180.407(f) | To modify the special permit to authorize additional trailers to transport stabilized acrylonitrile. (mode 1).
20390-M |  | American Security Cabinets Inc | 171.180 | To modify the special permit from an emergency special permit to a routine special permit. (modes 1, 2).

[FR Doc. 2017-11345 Filed 6-15-17; 8:45 am]

BILLING CODE 4909-60-P